DEPARTMENT OF TRANSPORTATION

Federal Aviation Administration

Noise Compatibility Program Notice; Georgetown Municipal Airport, Georgetown, TX

AGENCY: Federal Aviation Administration, DOT.

ACTION: Notice.

SUMMARY: The Federal Aviation Administration (FAA) announces its findings on the noise compatibility program submitted by the city of Georgetown under the provisions of 49 U.S.C. (the Aviation Safety and Noise Abatement Act, hereinafter referred to as “the Act”) and 14 CFR Part 150. These findings are made in recognition of the description of Federal and nonfederal responsibilities in Senate Report No. 96-52 (1980). On January 26, 2004, the FAA determined that the noise exposure maps submitted by the city of Georgetown under Part 150 were in compliance with applicable requirements. On May 27, 2005, the FAA approved the Georgetown Municipal Airport noise compatibility program. Most of the recommendations of the program were approved.

DATES: Effective Date: The effective date of the FAA's approval of the Georgetown Municipal Airport noise compatibility program is May 27, 2005.

FOR FURTHER INFORMATION CONTACT: Mr. Paul Blackford, Environmental Specialist, Federal Aviation Administration, Texas Airports Development Office, ASW-650, 2601 Meacham Boulevard, Fort Worth, Texas 76193-0650. Telephone (817) 222-5607. Documents reflecting this FAA action may be reviewed at this same location.

SUPPLEMENTARY INFORMATION: This notice announces that the FAA has given its overall approval to the noise compatibility program for the Georgetown Municipal Airport, effective May 27, 2005.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use an management of the navigable airspace and air traffic control system, or adversely affecting other powers and responsibilities of the Administrator prescribed by law.

Specific limitations with respect to FAA's approval of an airport noise compatibility program are delineated in FAR Part 150, section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA regional office in Fort Worth, Texas.

The city of Georgetown submitted to FAA on December 19, 2003, the noise exposure maps, descriptions, and other documentation produced during the noise compatibility planning study conducted from May 30, 2001, through June 3, 2004. The Georgetown Municipal Airport noise exposure maps were determined by FAA to be in compliance with applicable requirements on January 26, 2004. Notice of this determination was published in the Federal Register on February 19, 2004.

The Georgetown Municipal Airport study contains a proposed noise compatibility program comprised of actions designed for phased implementation by airport management and adjacent jurisdictions from June 3, 2004, to the year 2013. It was requested that the FAA evaluate and approve this material as a noise compatibility program as described in section 47504 of the Act. The FAA began its review of the program on November 20, 2004, and was required by a provision of the Act to approve or disapprove the program within 180 days (other than the use of new or modified flight procedures for noise control). Failure to approve or disapprove such program within the 180-day period shall be deemed to be an approval of such program.

This submitted program contained twenty (20) proposed actions for noise mitigation on and off the airport. The FAA completed its review and determined that the procedural and substantive requirements of the Act and FAR Part 150 have been satisfied. The overall program, therefore, was approved by the FAA, effective May 27, 2005.

Outright approval was granted for twelve (12) of the specific program elements. Six (6) elements were disapproved, one (1) element was partially approved and one (1) required no action. Disapproved elements included: Encourage Departing Aircraft To Use Best Rate of Climb; Encourage Aircraft to Begin Departure From the Runway; Avoid Prolonged Run-Ups and Perform As Near the Center of The Airport As Possible; Continue Use of NBAA Standard Noise Abatement Departure Procedures; and, Maintain Right-hand Traffic Pattern on Runway 36.

Analysis did not demonstrate the preceding measures noise benefits and thus were disapproved for purposes of Part 150. Disapproval does not prohibit the airport sponsor from continuing the actions or alternatively resubmission of the measures with supplemental information for FAA approval. Additionally, the measure to Designate Runway 11 as the Preferential Nighttime Runway for Departures was disapproved because it was inconsistent with efforts to reduce runway incursions and did not satisfy approval criteria under 14 CFR Part 150. Approved measures included sound insulation of twenty-seven (27) homes within the 2008 65 DNL Noise contour as well as those measures contained in the Land Use Planning Element (four (4) measures, one (1) approved in part) and the Program Management Element (four (4) measures).

These determinations are set forth-in detail in a Record of Approval signed by the Associate Administrator for Airports, ARP-1, on May 27, 2005. The Record of Approval, as well as other evaluation materials and the documents comprising the submittal, are available for review at the FAA office listed above and at the administrative offices of the Georgetown Municipal Airport. The Record of Approval also will be available on-line at: http://www.faa.gov/arp/environmental/14cfr150/index14.cfm.

Issued in Fort Worth, Texas, June 14, 2005.
Kelvin L. Solco,
Manager, Airports Division.

[FR Doc. 05-12376 Filed 6-21-05; 8:45 am]

BILLING CODE 4910-13-M